DEPARTMENT OF COMMERCE

International Trade Administration

[A-822-805]

Notice of Final Determination of Sales at Less Than Fair Value: Urea Ammonium Nitrate Solutions from Belarus

AGENCY: Import Administration, International Trade Administration, Department of Commerce.

ACTION: Notice of Final Determination of Sales at Less Than Fair Value.

EFFECTIVE DATE: February 27, 2003.

FOR FURTHER INFORMATION CONTACT: Tom Martin or Tom Futtner, AD/CVD Enforcement, Office 4, Group II, Import Administration, International Trade Administration, U.S. Department of Commerce, 14th Street and Constitution Avenue, NW., Washington, DC 20230; telephone: (202) 482-3936, and (202) 482-3814, respectively.

SUPPLEMENTARY INFORMATION:

Final Determination

We determine that urea ammonium nitrate solutions (UANS) from Belarus are being sold, or are likely to be sold, in the United States at less than fair value (LTFV), as provided in section 735 of the Act. The estimated margins of sales at LTFV are shown in the Final Determination of Investigation section of this notice.

Case History

On October 3, 2002, the Department of Commerce (the Department) published the preliminary determination of sales at LTFV in the antidumping duty investigation of UANS from Belarus. See Notice of Preliminary Determination of Sales at Less Than Fair Value: Urea Ammonium Nitrate Solutions From Belarus, 67 FR 62015 (October 3, 2002) (Preliminary Determination). Since the preliminary determination, the following events have occurred.

On November 7, 2002, the Department published a postponement of the final determination of sales at LTFV in the antidumping duty investigation of UANS from Belarus. See Postponement of the Final Determinations in the Less-Than-Fair-Value Investigations of Urea Ammonium Nitrate Solutions From Belarus, the Russian Federation, and Ukraine, 67 FR 67823 (November 7, 2002).

During November 2002, the Department conducted a verification of Grodno Production Republican Enterprise's (Grodno) sales and factors of production (FOP) information. See Memorandum from Tom Martin, Import Compliance Specialist, through Tom Futtner, Program Manager, to The File, “Verification of Sales and Factors of Production Information Reported by Grodno Production Republican Enterprise,” dated December 20, 2002 (Verification Report). Both the petitioner and Grodno filed surrogate value information and data on November 26, 2002.¹

¹ The petitioner in this investigation is the Nitrogen Solutions Fair Trade Committee. Its members consist of CF Industries, Inc., Mississippi Chemical Corporation, and Terra Industries, Inc.

On November 1, 2002, the petitioner requested a hearing pursuant to 19 CFR 351.301(e). However, no hearing was held in this investigation because the petitioner withdrew its request for a hearing.

In a memorandum filed on December 23, 2002, we altered the time limit for submitting case briefs pursuant to 351.309(c)(1)(i) of the Department's regulations. We received a case brief from the petitioner on January 7, 2003. On January 14, 2003, the respondent, through the Embassy of the Republic of Belarus, requested, and the Department granted, an extension for Grodno to submit comments. The respondent provided comments on January 17, 2003.

Scope of the Investigation

For purposes of this investigation, the product covered is all mixtures of urea and ammonium nitrate in aqueous or ammoniacal solution, regardless of nitrogen content by weight, and regardless of the presence of additives, such as corrosion inhibitors. The merchandise subject to this investigation is classified in the Harmonized Tariff Schedule of the United States (HTSUS) under item number 3102.80.00.00. Although the HTSUS item number is provided for convenience and customs purposes, the written description of the merchandise under investigation is dispositive.

Period of Investigation

The period of investigation (POI) is October 1, 2001, through March 31, 2002.

Analysis of Comments Received

All issues raised in the comments by parties to this proceeding and to which we have responded are listed in the Appendix to this notice and addressed in the Memorandum from Bernard T. Carreau, Deputy Assistant Secretary, to Faryar Shirzad, Assistant Secretary, “Issues and Decision Memorandum for the Final Determination in the Antidumping Duty Investigation of Urea Ammonium Nitrate Solutions from Belarus C October 1, 2001, through March 31, 2002,” dated concurrently with this notice (Decision Memorandum), which is hereby adopted by this notice. Parties can find a complete discussion of the issues raised in this investigation and the corresponding recommendations in this public memorandum which is on file in the Central Records Unit (CRU), room B-099 of the main Department building. In addition, a complete version of the Decision Memorandum can be accessed directly on the Web at http://ia.ita.doc.gov. The paper copy and electronic version of the Decision Memorandum are identical in content.

Non-Market Economy

The Department has treated Belarus as a nonmarket economy (NME) country in all previous antidumping investigations. See Notice of Final Determination of Sales at Less Than Fair Value: Steel Concrete Reinforcing Bars From Belarus, 66 FR 33528 (June 22, 2001). In accordance with section 771(18)(C)(i) of the Act, any determination that a foreign country is an NME country shall remain in effect until revoked. Therefore, pursuant to section 771(18)(C)(i) of the Act, the Department has continued to treat Belarus as an NME country for the purposes of this investigation.

Separate Rates

In our Preliminary Determination, we found that the only responding company, Grodno, met the criteria for the application of separate, company-specific antidumping duty rates. We have not received any other information since the preliminary determination which would warrant reconsideration of our separates rates determination with respect to this company. For a complete discussion of the Department's determination that the respondent is entitled to a separate rate, see the Preliminary Determination. We have also addressed an allegation made by the petitioner in the Decision Memorandum at Comment 4.

The Belarus-Wide Rate

In all NME cases, the Department makes a rebuttable presumption that all exporters or producers located in the NME country comprise a single exporter under common government control, “the NME entity.” The Department assigns a single NME rate to the NME entity unless an exporter can demonstrate eligibility for a separate rate.

In the Preliminary Determination, Grodno qualified for a separate rate. Furthermore, information on the record of this investigation indicates that Grodno accounted for all imports of subject merchandise during the POI. Since Grodno is the only known Belarusian exporter of UANS to the United States during the POI, we have calculated a Belarus-wide rate for this investigation based on the weighted-average margin determined for Grodno.

Surrogate Country

When the Department is investigating imports from an NME country, section 773(c)(1) of the Act directs the Department to base normal value (NV) on the NME producer's FOP, valued in a comparable market economy that is a significant producer of comparable merchandise. For purposes of the final determination, we continue to find that South Africa remains the appropriate surrogate country for Belarus. We received comments from the respondent pertaining to our selection of South Africa, which are discussed in the accompanying Decision Memorandum at Comment 1.

Verification

As provided in section 782(i) of the Act, we verified the information submitted by the respondent for use in our final determination. We used standard verification procedures including examination of relevant accounting and production records, and original source documents provided by the respondents. For changes from the Preliminary Determination as a result of verification, see the Changes Since the Preliminary Determination section below.

Changes Since the Preliminary Determination

Based on our findings at verification and on our analysis of the comments received, we have made adjustments to the calculation methodologies. We are valuing the river water FOP and the steam FOPs separately from surrogate overhead value, and we are applying truck freight rather than rail freight to three FOPs. These adjustments are discussed in detail in the (1) Decision Memorandum, (2) Memorandum from the Team to the File, “Additional Surrogate Country Values Used for the Final Determination of the Antidumping Duty Investigation of Urea Ammonium Nitrate Solutions from Belarus,” dated February 18, 2003, and (3) Memorandum from the Team to the File, “Calculation Memorandum for the Final Determination,” dated February 18, 2003.

Continuation of Suspension of Liquidation

In accordance with section 735(c)(1)(B)(ii) of the Act, we are directing the U.S. Customs Service (Customs) to continue suspension of liquidation of entries of subject merchandise from Belarus that are entered, or withdrawn from warehouse, for consumption on or after October 3, 2002 (the date of publication of the Preliminary Determination in the Federal Register). We will instruct the Customs Service to require a cash deposit or the posting of a bond equal to the weighted-average amount by which the NV exceeds the U.S. price, as indicated in the chart below. These suspension-of-liquidation instructions will remain in effect until further notice.

Final Determination of Investigation

We determine that the following weighted-average percentage margins exist for the period October 1, 2001, through March 31, 2002:

Manufacturer/exporter | Weighted-Average ­Margin (percent)
Grodno Production Republican Enterprise | 226.82
Belarus-Wide Rate | 226.82

The Belarus-wide rate applies to all entries of the subject merchandise except for entries from Grodno.

U.S. International Trade Commission Notification

In accordance with section 735(d) of the Act, we have notified the U.S. International Trade Commission (ITC) of our determination. As our final determination is affirmative, the ITC will determine, within 45 days, whether these imports are materially injuring, or threaten material injury to, the U.S. industry. If the ITC determines that material injury, or threat of material injury does not exist, the proceeding will be terminated and all securities posted will be refunded or canceled. If the ITC determines that such injury does exist, the Department will issue an antidumping duty order directing Customs officials to assess antidumping duties on all imports of subject merchandise entered for consumption on or after the effective date of the suspension of liquidation.

Notification Regarding Administrative Protective Order (APO)

This notice also serves as a reminder to parties subject to APO of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: February 19, 2003.
Faryar Shirzad,
Assistant Secretary for Import Administration.

Appendix--Issues in Decision Memorandum

1. Whether Lithuania Should Be Used as a Surrogate Country

2. Whether Catalysts Should Be Valued Separately

3. Whether Water and Water-based Inputs (Steam and Raw Condensate) Should Be Valued Separately

4. Whether Grodno Should Be Issued a Separate Rate

[FR Doc. 03-4648 Filed 2-26-03; 8:45 am]

BILLING CODE 3510-DS-S